ENVIRONMENTAL PROTECTION AGENCY

40 CFR Part 52

[AZ 063-0029b; FRL-6876-5]

Revisions to the Arizona State Implementation Plan, Pinal County Air Quality Control District

AGENCY: Environmental Protection Agency (EPA).

ACTION: Proposed rule.

SUMMARY: EPA is proposing to approve revisions to the Pinal County Air Quality Control District portion of the Arizona State Implementation Plan (SIP). These revisions concern sulfur dioxide (SO2) emissions from fuel burning installations, sulfite pump mills, and fossil fuel fired generators. We are proposing to approve local rules to regulate these emission sources under the Clean Air Act as amended in 1990 (CAA or the Act), and to remove one rule from the SIP.

DATES: Any comments on this proposal must arrive by October 30, 2000.

ADDRESSES: Mail comments to Andy Steckel, Rulemaking Office Chief (AIR-4), U.S. Environmental Protection Agency, Region IX, 75 Hawthorne Street, San Francisco, CA 94105-3901.

You can inspect copies of the submitted SIP revisions and EPA's technical support documents (TSDs) at our Region IX office during normal business hours. You may also see copies of the submitted SIP revisions at the following locations: Arizona Department of Environmental Quality, 3033 North Central, Phoenix, AZ 95012.

Pinal County Air Quality Control District, Building F, 31 North Pinal Street, Florence, AZ 85232.

FOR FURTHER INFORMATION CONTACT: Christine Vineyard, Rulemaking Office (Air-4), U.S. Environmental Protection Agency, Region IX, (415) 744-1197.

SUPPLEMENTARY INFORMATION: This proposal addresses the following local rules:

Air pollution agency | Rule No. | Rule title | Submitted
PCAQCD | 5-22-950 | Fossil Fuel Fired Steam Generator Standard Applicability | 11/27/95
PCAQCD | 5-22-960 | Fossil Fuel Fired Steam General Sulfur Dioxide Emission Limitation | 11/27/95
PCAQCD | 5-24-1024 | Sulfite pulp mills—sulfur compound emissions | 11/27/95
PCAQCD | 7-3-2.5 | Other Industries (repealed) | 10/07/98

In the Rules and Regulations section of this Federal Register, we are approving these local rules and remove one rule in a direct final action without prior proposal because we believe these SIP revisions are not controversial. If we receive adverse comments, however, we will publish a timely withdrawal of the direct final rule and address the comments in subsequent action based on this proposed rule. We do not plan to open a second comment period, so anyone interested in commenting should do so at this time. If we do not receive adverse comments, no further activity is planned. For further information, please see the direct final action.

Dated: August 21, 2000.
Carl Kohnert,
Acting Regional Administrator, Region IX.

[FR Doc. 00-24569 Filed 9-28-00; 8:45 am]

BILLING CODE 6560-50-P